DEPARTMENT OF DEFENSE

Department of the Navy

[Docket ID: USN-2013-0041]

Privacy Act of 1974; System of Records

AGENCY: Department of the Navy, DoD.

ACTION: Notice to alter a System of Records.

SUMMARY: The Department of the Navy proposes to alter the system of records, N01001-1, entitled “Database of Reserve/Retired Judge Advocates and Legalmen” in its inventory of record systems subject to the Privacy Act of 1974, as amended. This system will be used to facilitate liaison between Naval Reserve Law Units, Law Program Director, Director, Naval Reserve Law Programs, and the Navy's legal assistance program.

DATES: This proposed action will be effective on January 7, 2014 unless comments are received which result in a contrary determination. Comments will be accepted on or before January 6, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a of the Privacy Act of 1974, as amended, was submitted on October 24, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 2, 2013.
Aaron Siegel,
Alternate OSD Federal Register Liaison Officer, Department of Defense.

N01001-1

System name:

Database of Reserve/Retired Judge Advocates and Legalmen (July 14, 1999, 64 FR 37944).

Changes:

* * * * *

Categories of records in the system:

Delete entry and replace with “Personal and professional information: Full name and nickname; Social Security Number (SSN); date of birth; home address; home and office telephone/FAX/pager numbers; email address; gender; school year and degrees earned; and spouse's name. * The SSN is no longer authorized to be collected; however, older files may still contain the SSN if previously collected. Files will be maintained until the records meet their retention and are destroyed.

Military information: Home of record, rank/date of rank; branch of service; lineal number; date of entrance on duty (enlisted); pay entry base data; date commissioned; date retired; military accomplishments; Naval Officer Billet Codes; Naval Enlisted Billet Code; military decorations; Naval Reserve Awards; letters of appreciation; Sailor of the Quarter/Year; military courses completed and dates attended; military certificates (e.g., Career Counselor, Surface Warfare, Naval Aviator); foreign language skills, Readiness Command; Reserve Unit Identification Code; unit name; current unit; position; date joined unit; primary type of employment; employer/agency; and job title.

Civilian job information: Civilian Occupational Codes; Federal and State Courts admitted; and address of employer.”

Authority for maintenance of the system:

Delete entry and replace with “10 U.S.C. 5013, Secretary of the Navy; 10 U.S.C. 806, Judge advocates and legal officers; and E.O. 9397 (SSN), as amended.”

* * * * *

Storage:

Delete entry and replace with “Electronic storage media and paper records.”

Retrievability:

Delete entry and replace with “Information in this database can be retrieved by name, address, email address, and home of record.”

Safeguards:

Delete entry and replace with “Access to the computer database is restricted to individuals with a need to know and requires a Common Access Card (CAC). Offices where files are stored are locked daily.”

Retention and disposal:

Delete entry and replace with “Records are retained on board and destroy when no longer needed.”

System Manager(s) and Address:

Delete entry and replace with “Deputy Judge Advocate General (Reserve Affairs and Operations, Department of the Navy, Washington Navy Yard, 1322 Patterson Street SE., Washington, DC 20374-5066.”

Notification procedure:

Delete entry and replace with “Individuals seeking to determine whether this system contains information about themselves should address written inquiries to the Deputy Judge Advocate General (Reserve Affairs and Operations), Department of the Navy, Washington Navy Yard, 1322 Patterson Street SE., Washington, DC 20374-5066.

The request should contain full name and address of the individual concerned and should be signed.

The system manager may require an original signature or a notarized signature as a means of proving the identity of the individual requesting access to the records.”

Record access procedures:

Delete entry and replace with “Individuals seeking access to information about themselves contained in this system of records should address written inquiries to the Deputy Judge Advocate General (Reserve Affairs and Operations), Department of the Navy, Washington Navy Yard, 1322 Patterson Street SE., Washington, DC 20374-5066.

The request should contain full name and address of the individual concerned and should be signed.

The system manager may require an original signature or a notarized signature as a means of proving the identity of the individual requesting access to the records.”

* * * * *

[FR Doc. 2013-29106 Filed 12-5-13; 8:45 am]

BILLING CODE 5001-06-P